DEPARTMENT OF TRANSPORTATION

National Highway Traffic Safety Administration

[Docket No. NHTSA-2007-28733; Notice 1]

Bentley Motors, Inc., Receipt of Petition for Decision of Inconsequential Noncompliance

Bentley Motors, Inc. (Bentley) has determined that certain motor vehicles that it produced between July 2006 and March 2, 2007 do not comply with paragraphs S4.5.1(b)(3) and S4.5.1(e)(3) of 49 CFR 571.208, Federal Motor Vehicle Safety Standard (FMVSS) No. 208, Occupant Crash Protection. Bentley has filed an appropriate report pursuant to 49 CFR Part 573, Defect and Noncompliance Responsibility and Reports.

Pursuant to 49 U.S.C. 30118(d) and 30120(h), Bentley has petitioned for an exemption from the notification and remedy requirements of 49 U.S.C. Chapter 301 on the basis that this noncompliance is inconsequential to motor vehicle safety.

This notice of receipt of Bentley's petition is published under 49 U.S.C. 30118 and 30120 and does not represent any agency decision or other exercise of judgment concerning the merits of the petition.

Affected are a total of approximately 244 model year 2007 Bentley Arnage and Azure model passenger cars produced between July 2006 and March 2, 2007. Paragraph S4.5.1(b)(3)of FMVSS No. 208 requires:

(3) Vehicles certified to meet the requirements specified in S19, S21, or S23 on or after September 1, 2003 shall have a label permanently affixed to either side of the sun visor, at the manufacturer's option, at each front outboard seating position that is equipped with an inflatable restraint. The label shall conform in content to the label shown in Figure 11 of this standard and shall comply with the requirements of S4.5.1(b)(3)(i) through S4.5.1(b)(3)(iv).

(i) The heading area shall be yellow with the word “WARNING” and the alert symbol in black.

(ii) The message area shall be white with black text. The message area shall be no less than 30 cm2 (4.7 in ²).

(iii) The pictogram shall be black on a white background. The pictogram shall be no less than 30 mm (1.2 in) in length.

(iv) If the vehicle does not have a back seat, the label shown in the figure may be modified by omitting the statement: “The BACK SEAT is the SAFEST place for CHILDREN.”

(v) If the vehicle does not have a back seat or the back seat is too small to accommodate a rear-facing child restraint consistent with S4.5.4.1, the label shown in the figure may be modified by omitting the statement: “Never put a rear-facing child seat in the front.”

Paragraph S4.5.1(e)(3) of FMVSS No. 208 requires:

(3) Vehicles certified to meet the requirements specified in S19, S21, and S23 on or after December 1, 2003, that are equipped with an inflatable restraint for the passenger position shall have a label attached to a location on the dashboard or the steering wheel hub that is clearly visible from all front seating positions. The label need not be permanently affixed to the vehicle. This label shall conform in content to the label shown in Figure 12 of this standard and shall comply with the requirements of S4.5.1(e)(3)(i) through S4.5.1(e)(3)(iv).

(i) The heading area shall be yellow with black text.

(ii) The message area shall be white with black text. The message area shall be no less than 30 cm ² (4.7 in ²).

(iii) If the vehicle does not have a back seat, the label shown in Figure 12 may be modified by omitting the statement: “The back seat is the safest place for children.”

(iv) If the vehicle does not have a back seat or the back seat is too small to accommodate a rear-facing child restraint consistent with S4.5.4.1, the label shown in Figure 12 may be modified by omitting the statement: “Never put a rear-facing child seat in the front.”

Bentley states that it has corrected the problem that caused these errors so that they will not be repeated in future production. Bentley also states that it believes the noncompliance is inconsequential to motor vehicle safety and that no corrective action is warranted.

Bentley explains that instead of the “advanced air bag” warning labels required pursuant to the paragraphs S4.5.1(b)(3) and S4.5.1(e)(3) of FMVSS No. 208 the affected vehicles were equipped with the “pre-advanced” air bag warning labels conforming to paragraph S4.5.l(b)(l) and S4.5.1(e)(1).

Bentley argues that because the “pre-advanced” sun visor labels used on the vehicles carry essentially the equivalent or even more emphatic warnings to those required in the regulation and because the owner's manual information correctly describes the advanced air bag system, there is no safety risk or cause for consumer confusion arising from the installed labeling.

Bentley additionally states that the vehicles otherwise comply with all advanced air bag requirements, that the owner manuals contain the correct information required for advanced airbags, and that it has no record of customers contacting the company with inquiries, complaints, or comments with regard to air bag warning labels.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 am to 5 pm except Federal holidays.

c. Electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: September 17, 2007.

Authority: 49 U.S.C. 30118, 30120: delegations of authority at CFR 1.50 and 501.8.

Issued on: August 10, 2007.
Claude H. Harris,
Director, Office of Vehicle Safety Compliance.

[FR Doc. E7-16127 Filed 8-15-07; 8:45 am]

BILLING CODE 4910-59-P